NATIONAL FOUNDATION ON THE ARTS AND THE HUMANITIES

Meetings of Humanities Panel

AGENCY: National Endowment for the Humanities.

ACTION: Notice of Meetings.

SUMMARY: The National Endowment for the Humanities (NEH) will hold twenty-six meetings of the Humanities Panel, a federal advisory committee, during July, 2014 as follows. The purpose of the meetings is for panel review, discussion, evaluation, and recommendation of applications for financial assistance under the National Foundation on the Arts and Humanities Act of 1965.

DATES: See SUPPLEMENTARY INFORMATION section for meeting dates.

ADDRESSES: The meetings will be held at Constitution Center, 400 7th Street SW., Washington, DC 20506. See SUPPLEMENTARY INFORMATION section for meeting room numbers.

FOR FURTHER INFORMATION CONTACT: Lisette Voyatzis, Committee Management Officer, 400 7th Street SW., Room 4060, Washington, DC 20506, or call (202) 606-8322. Hearing-impaired individuals are advised that information on this matter may be obtained by contacting the National Endowment for the Humanities' TDD terminal at (202) 606-8282.

SUPPLEMENTARY INFORMATION: Pursuant to section 10(a)(2) of the Federal Advisory Committee Act (5 U.S.C. App.), notice is hereby given of the following meetings:

1. DATE: July 15, 2014.

TIME: 8:30 a.m. to 5:00 p.m.

ROOM: P002.

This meeting will discuss applications on the subjects of Literature, Arts, Philosophy, and Religion for the Awards for Faculty grant program, submitted to the Division of Research Programs.

2. DATE: July 15, 2014.

TIME: 8:30 a.m. to 5:00 p.m.

ROOM: P003.

This meeting will discuss applications on the subjects of History and Social Science for the Awards for Faculty grant program, submitted to Division of Research Programs.

3. DATE: July 15, 2014.

TIME: 8:30 a.m. to 5:00 p.m.

ROOM: 4002.

This meeting will discuss applications for Challenge Grants from colleges, universities and research institutions, submitted to Office of Challenge Grants.

4. DATE: July 16, 2014.

TIME: 8:30 a.m. to 5:00 p.m.

ROOM: P002.

This meeting will discuss applications on the subjects of American History, Literature, and Studies for the Awards for Faculty grant program, submitted to the Division of Research Programs.

5. DATE: July 17, 2014.

TIME: 8:30 a.m. to 5:00 p.m.

ROOM: P002.

This meeting will discuss applications on the subject of British Literature for the Fellowships for University Teachers grant program, submitted to the Division of Research Programs.

6. DATE: July 17, 2014.

TIME: 8:30 a.m. to 5:00 p.m.

ROOM: P003.

This meeting will discuss applications on the subject of British Literature for the Fellowships for University Teachers grant program, submitted to the Division of Research Programs.

7. DATE: July 17, 2014.

TIME: 8:30 a.m. to 5:00 p.m.

ROOM: 4002.

This meeting will discuss applications for Challenge Grants on the subject of History, submitted to the Office of Challenge Grants.

8. DATE: July 18, 2014.

TIME: 8:30 a.m. to 5:00 p.m.

ROOM: P002.

This meeting will discuss applications on the subjects of Ancient and Classical Studies for the Fellowships for University Teachers grant program, submitted to the Division of Research Programs.

9. DATE: July 21, 2014.

TIME: 8:30 a.m. to 5:00 p.m.

ROOM: P002.

This meeting will discuss applications on the subject of Modern European History for the Fellowships for University Teachers grant program, submitted to the Division of Research Programs.

10. DATE: July 22, 2014.

TIME: 8:30 a.m. to 5:00 p.m.

ROOM: P002.

This meeting will discuss applications on the subject of Music for the Fellowships for University Teachers grant program, submitted to the Division of Research Programs.

11. DATE: July 22, 2014.

TIME: 8:30 a.m. to 5:00 p.m.

ROOM: P003.

This meeting will discuss applications on the subject of Art History for the Fellowships for University Teachers grant program, submitted to the Division of Research Programs.

12. DATE: July 23, 2014.

TIME: 8:30 a.m. to 5:00 p.m.

ROOM: P002.

This meeting will discuss applications on the subject of Philosophy for the Fellowships for University Teachers grant program, submitted to the Division of Research Programs.

13. DATE: July 23, 2014.

TIME: 8:30 a.m. to 5:00 p.m.

ROOM: P003.

This meeting will discuss applications on the subject of Philosophy for the Fellowships for University Teachers grant program, submitted to the Division of Research Programs.

14. DATE: July 24, 2014.

TIME: 8:30 a.m. to 5:00 p.m.

ROOM: P002.

This meeting will discuss applications on the subjects of Comparative Literature and Literary Theory for the Fellowships for University Teachers grant program, submitted to the Division of Research Programs.

15. DATE: July 24, 2014.

TIME: 8:30 a.m. to 5:00 p.m.

ROOM: P003.

This meeting will discuss applications on the subject of Cinema Studies for the Fellowships for University Teachers grant program, submitted to the Division of Research Programs.

16. DATE: July 24, 2014.

TIME: 8:30 a.m. to 5:00 p.m.

ROOM: 4002.

This meeting will discuss applications for Challenge Grants on the subjects of Art and Anthropology, submitted to the Office of Challenge Grants.

17. DATE: July 25, 2014.

TIME: 8:30 a.m. to 5:00 p.m.

ROOM: P002.

This meeting will discuss applications on the subjects of Social Sciences and the History of Science for the Fellowships for University Teachers grant program, submitted to the Division of Research Programs.

18. DATE: July 28, 2014.

TIME: 8:30 a.m. to 5:00 p.m.

ROOM: P002.

This meeting will discuss applications on the subject of Art History for the Fellowships for University Teachers grant program, submitted to the Division of Research Programs.

19. DATE: July 28, 2014.

TIME: 8:30 a.m. to 5:00 p.m.

ROOM: P003.

This meeting will discuss applications for the Fellowships for Advanced Research on Japan grant program, submitted to the Division of Research Programs.

20. DATE: July 29, 2014.

TIME: 8:30 a.m. to 5:00 p.m.

ROOM: P002.

This meeting will discuss applications on the subject of Early Modern European History for the Fellowships for University Teachers grant program, submitted to the Division of Research Programs.

21. DATE: July 29, 2014.

TIME: 8:30 a.m. to 5:00 p.m.

ROOM: P003.

This meeting will discuss applications on the subject of Modern European History for the Fellowships for University Teachers grant program, submitted to the Division of Research Programs.

22. DATE: July 29, 2014.

TIME: 8:30 a.m. to 5:00 p.m.

ROOM: 4002.

This meeting will discuss applications for Challenge Grants by colleges, universities and research institutions, submitted to the Office of Challenge Grants.

23. DATE: July 30, 2014.

TIME: 8:30 a.m. to 5:00 p.m.

ROOM: P002.

This meeting will discuss applications on the subjects of Political Science and Jurisprudence for the Fellowships for University Teachers grant program, submitted to the Division of Research Programs.

24. DATE: July 30, 2014.

TIME: 8:30 a.m. to 5:00 p.m.

ROOM: P003.

This meeting will discuss applications on the subject of American Literature for the Fellowships for University Teachers grant program, submitted to the Division of Research Programs.

25. DATE: July 31, 2014.

TIME: 8:30 a.m. to 5:00 p.m.

ROOM: P002.

This meeting will discuss applications on the subject of American History for the Fellowships for University Teachers grant program, submitted to the Division of Research Programs.

26. DATE: July 31, 2014.

TIME: 8:30 a.m. to 5:00 p.m.

ROOM: P003.

This meeting will discuss applications on the subject of American History for the Fellowships for University Teachers grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: June 26, 2014.
Lisette Voyatzis,
Committee Management Officer.

[FR Doc. 2014-15583 Filed 7-1-14; 8:45 am]

BILLING CODE 7536-01-P